DEPARTMENT OF LABOR

Office of the Secretary

Agency Information Collection Activities; Submission for OMB Review; Comment Request; Demonstration and Evaluation of Community College Interventions for Youth and Young Adults With Disabilities

AGENCY: Office of the Assistant Secretary for Policy, Chief Evaluation Office, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed Information Collection Request can be obtained by contacting the office listed below in the addressee section of this notice.

DATES: Written comments must be submitted to the office listed in the addressee section below on or before December 7, 2015.

ADDRESSES: You may submit comments by either one of the following methods: Email: ChiefEvaluationOffice@dol.gov; Mail or Courier: Celeste Richie, Chief Evaluation Office, U.S. Department of Labor, Room S-2218, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Celeste Richie by email at ChiefEvaluationOffice@dol.gov.

SUPPLEMENTARY INFORMATION:

I. Background: In June 2014, ODEP announced the availability of funds for two cooperative agreements to conduct pilot projects to research, develop, test and, in coordination with DOL, evaluate innovative systems models for providing inclusive integrated education and career development services to youth and young adults with disabilities. In September of 2014, ODEP competitively selected Onondaga Community College and Pellissippi State Community College for the Pathways to Careers Grant Program. The program models are designed to (1) increase credential and job attainment of students with disabilities, (2) increase their job placement, and (3) decrease the wage earning differential between students with and without disabilities, and between students with different types of disabilities.

The grantees are expected to design approaches that work to shift practice and policy across the institution. This involves transforming the entire college's approach for providing services, as opposed to a single division, and enlisting support from and engagement of administrators, deans, department chairs, faculty, student services, and other divisions that have a role in ensuring students' success. It is expected that grantees will leverage their partnerships and relationships with national affiliates, association members or business organizations, and a variety of other entities including the public workforce system. Grantees are also required to capture and use data to assess and manage their program performance, and to participate in an independent evaluation.

ODEP has oversight responsibility for the Pathways to Careers Grant Program. The Chief Evaluation Office of DOL is conducting the evaluation of the Pathways to Careers Grant Program. The evaluation consists of an implementation study and a descriptive outcomes study. The implementation study will document the institutional change at the two colleges; assess the fidelity of the implemented programs to the intended program model; assess the models for replicability and scalability; and determine the extent to which the grantees used Universal Design for Learning (UDL) principles and the Guideposts for Success in the development and operation of their programs. The outcomes study will document PTC participant outcomes, examine the extent to which the grantees meet target goals, and conduct predictive analyses to identify participant characteristics associated with particular outcomes.

The evaluation will involve the collection of data through in-depth interviews of community college administrators, faculty and staff and partner organizations; focus groups of faculty and students with disabilities who participate in the Pathways to Careers Grant Program; and web-based surveys with telephone follow-up for student participants. The interviews with college administrators, faculty and staff will provide information on how the program interventions were implemented, challenges to implementation, and promising practices. Interviews will focus on program design, strengths and weaknesses of infrastructure and logistics, clarity of communication, effectiveness of enrollment, intake, and orientation, impressions of program delivery, and access to support services.

Focus groups with Pathways to Careers participants will collect information about career planning activity engagement, perceptions of the availability of career planning supports, satisfaction with and perceived importance of career planning, and the extent to which personal challenges influence this process and career choices. Focus groups with faculty who teach the career tracks of the Pathways to Careers program will focus on initial experience and perspectives, and availability of and involvement in professional development.

The survey will collect information from Pathways to Careers participants about their college experience, self-advocacy and self-determination, and employment and earnings during and after college. The survey will provide data to assess short-term and longer-term outcomes associated with student participation in the Pathways to Careers program.

II. Desired Focus of Comments: Currently, the Department of Labor is soliciting comments concerning the above data collection as part of the evaluation of the Pathways to Careers Grant Program. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions: At this time, the Department of Labor is requesting clearance for data collection for the evaluation of the Pathways to Careers Grant Program via in-depth interviews with community college administrators, faculty, staff, and partner organizations of the program; focus groups with faculty and students with disabilities who participate in the Pathways to Careers Grant Program; and an online survey with telephone follow-up for student participants.

Type of review: New information collection request.

OMB Control Number: XXXX—0NEW

Affected Public: Community colleges (participating in the Pathways to Careers Grant Program); private sector-businesses or other for profits and not for profit institutions (partners organizations involved with the Pathways to Careers Grant Program); students with disabilities (participating in the Pathways to Careers Grant Program at the two colleges).

Estimated Burden Hours
Form/activity | Estimated total respondents | Frequency | Total responses | Average time per response (hours) | Estimated total burden hours
Participant survey | 150 (enrolled in 2015-2016 school year) | Three times | 450 | 0.5 | 225
| 200 (enrolled in 2016-2017 school year) | Two times | 400 | 0.5 | 200
In-depth interviews | 28 | Three times | 84 | 1.0 | 84
Faculty focus groups | 16 | Two times | 32 | 1.0 | 32
Student focus groups | 32 | Two times | 64 | 1.0 | 64
Totals | 426 |  | 1,030 |  | 605

Comments submitted in response to this request will be summarized and/or included in the request for Office of Management and Budget approval; they will also become a matter of public record.

Signed: at Washington, DC, this 17th day of September 2015.
Mary Beth Maxwell,
Principal Deputy Assistant Secretary for Policy, U.S. Department of Labor.

[FR Doc. 2015-25429 Filed 10-5-15; 8:45 am]

BILLING CODE 4510-HX-P